DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than May 17, 2021.

Interested persons are invited to submit written comments regarding the subject matter of the investigations to the Administrator, Office of Trade Adjustment Assistance, at the address shown below, not later than May 17, 2021.

The petitions filed in this case are available for inspection at the Office of the Administrator, Office of Trade Adjustment Assistance, Employment and Training Administration, U.S. Department of Labor, Room N-5428, 200 Constitution Avenue NW, Washington, DC 20210.

Signed at Washington, DC, this 21st day of April 2021.
Hope D. Kinglock,
Certifying Officer, Office of Trade Adjustment Assistance.

Appendix

64 TAA Petitions Instituted Between 3/1/21 and 3/31/21
TA-W | Subject firm (petitioners) | Location | Date of institution | Date of petition
96754 | Catalytic Combustion Corporation (State Official) | Bloomer, WI | 01-Mar-2021 | 26-Feb-2021.
96755 | Dayco Products (Company Official) | Mount Pleasant, MI | 01-Mar-2021 | 26-Feb-2021.
96756 | Monotype (State Official) | Woburn, MA | 01-Mar-2021 | 28-Feb-2021.
96757 | Woodgrain (State Official) | Marion, VA | 02-Mar-2021 | 26-Feb-2021.
96758 | Forge Product, Inc. (State Official) | Houston, TX | 02-Mar-2021 | 01-Mar-2021.
96759 | Bucyrus Precision Tech, Inc. (Company Official) | Bucyrus, OH | 02-Mar-2021 | 01-Mar-2021.
96760 | Mondelez Global LLC Fair Lawn Bakery (State Official) | Fair Lawn, NJ | 02-Mar-2021 | 01-Mar-2021.
96761 | Delaware Dynamics (State Official) | Muncie, IN | 03-Mar-2021 | 02-Mar-2021.
96762 | Clayton Manufacturing Company (American Job Center) | City of Industry, CA | 03-Mar-2021 | 02-Mar-2021.
96763 | Georgia-Pacific Consumer Operations LLC (Union Official) | Easton, PA | 03-Mar-2021 | 02-Mar-2021.
96764 | Alex Apparel Group, Inc. (Company Official) | New York, NY | 03-Mar-2021 | 24-Feb-2021.
96765 | LEDVANCE LLC (Company Official) | Wilmington, MA | 04-Mar-2021 | 03-Mar-2021.
96766 | EFCO Corporation (State Official) | Springfield, MO | 05-Mar-2021 | 03-Mar-2021.
96767 | Bed Bath and Beyond (Worker) | Ocoee, FL | 05-Mar-2021 | 04-Mar-2021.
96768 | Marley Precision, Inc. (State Official) | Battle Creek, MI | 05-Mar-2021 | 04-Mar-2021.
96769 | Col-fin Specialty Steel Corporation (Authorized Representative) | Monaca, PA | 08-Mar-2021 | 05-Mar-2021.
96770 | Hologic, Inc. (Company Official) | Marlborough, MA | 08-Mar-2021 | 05-Mar-2021.
96771 | Albany Democrat Herald (State Official) | Albany, OR | 08-Mar-2021 | 05-Mar-2021.
96772 | BASF (State Official) | Muskegon, MI | 09-Mar-2021 | 08-Mar-2021.
96773 | Hitachi Cable America, Inc. (American Job Center) | Pensacola, FL | 09-Mar-2021 | 08-Mar-2021.
96774 | Northern Engraving (Union Official) | Sparta, WI | 09-Mar-2021 | 08-Mar-2021.
96775 | Levolor (American Job Center) | Ogden, UT | 09-Mar-2021 | 08-Mar-2021.
96776 | Vestas Blades America, Inc. (State Official) | Brighton, CO | 10-Mar-2021 | 09-Mar-2021.
96777 | Siemens Energy (State Official) | Olean, NY | 10-Mar-2021 | 09-Mar-2021.
96778 | Trace-A-Matic Corporation (Company Official) | Houston, TX | 10-Mar-2021 | 09-Mar-2021.
96779 | Prosource Trace a Matic (State Official) | Houston, TX | 10-Mar-2021 | 09-Mar-2021.
96780 | TNN Manufacturing (State Official) | Houston, TX | 10-Mar-2021 | 09-Mar-2021.
96781 | Ellwood Texas Forge (State Official) | Houston, TX | 10-Mar-2021 | 09-Mar-2021.
96782 | Hitachi ABB Power Grids (Union Official) | Mount Pleasant, PA | 10-Mar-2021 | 10-Mar-2021.
96783 | Acument Gloabl Technologies (State Official) | Rochester, IN | 10-Mar-2021 | 10-Mar-2021.
96784 | Delta Galil (State Official) | Williamsport, PA | 11-Mar-2021 | 10-Mar-2021.
96785 | Butterball LLC (American Job Center) | Carthage, MO | 11-Mar-2021 | 10-Mar-2021.
96786 | Deluxe Corporation (State Official) | Groton, MA | 12-Mar-2021 | 11-Mar-2021.
96787 | BASF Corporation (Company Official) | West Memphis, AR | 12-Mar-2021 | 11-Mar-2021.
96788 | Connecticare Capital, LLC (State Official) | Farmington, CT | 12-Mar-2021 | 11-Mar-2021.
96789 | Boeing Distribution Services Inc. (State Official) | Chambersburg, PA | 12-Mar-2021 | 11-Mar-2021.
96790 | Industrial Preventive Maintenance (State Official) | Usk, WA | 12-Mar-2021 | 10-Mar-2021.
96791 | Eastham Forge, Inc. (State Official) | Beaumont, TX | 15-Mar-2021 | 12-Mar-2021.
96792 | Pacific Life Insurance Company (State Official) | Aliso Viejo, CA | 15-Mar-2021 | 12-Mar-2021.
96793 | Carlyle (Company Official) | Stone Mountain, GA | 16-Mar-2021 | 15-Mar-2021.
96794 | Register Guard—Gannett (Gatehouse Media) (State Official) | Eugene, OR | 17-Mar-2021 | 16-Mar-2021.
96795 | Electrical Geodesics, Inc. (State Official) | Eugene, OR | 17-Mar-2021 | 16-Mar-2021.
96796 | Orchid Orthopedic Solutions (State Official) | Oregon City, OR | 17-Mar-2021 | 16-Mar-2021.
96797 | Schaffner Manufacturing Company, Inc. (State Official) | Pittsburgh, PA | 17-Mar-2021 | 16-Mar-2021.
96798 | Avtech Tyee (State Official) | Everett, WA | 18-Mar-2021 | 11-Mar-2021.
96799 | XPO Logistics Supply Chain, Inc. (State Official) | Everett, WA | 18-Mar-2021 | 16-Mar-2021.
96800 | Sensitech Inc. (Company Official) | Beverly, MA | 19-Mar-2021 | 18-Mar-2021.
96801 | Boehringer Ingelheim (State Official) | Ridgefield, CT | 22-Mar-2021 | 19-Mar-2021.
96802 | Numerical Precision (State Official) | Crosby, TX | 22-Mar-2021 | 19-Mar-2021.
96803 | Wabtec Corporation (Wilmerding Plant) (Union Official) | Wilmerding, PA | 23-Mar-2021 | 22-Mar-2021.
96804 | Insurity (State Official) | Hartford, CT | 23-Mar-2021 | 22-Mar-2021.
96805 | Tory Burch LLC (Worker) | New York, NY | 23-Mar-2021 | 22-Mar-2021.
96806 | B & R Sheet Metal, Inc. (State Official) | Eugene, OR | 23-Mar-2021 | 22-Mar-2021.
96807 | Transco Industries Inc. (State Official) | Portland, OR | 23-Mar-2021 | 22-Mar-2021.
96808 | Pacific Wood Laminates, Inc. (State Official) | Brookings, OR | 26-Mar-2021 | 25-Mar-2021.
96809 | Cascade Wood Products, Inc. (State Official) | White City, OR | 26-Mar-2021 | 25-Mar-2021.
96810 | Jeld-Wen, Inc (State Official) | Chiloquin, OR | 26-Mar-2021 | 25-Mar-2021.
96811 | Bright Wood Corporation (State Official) | Madras, OR | 26-Mar-2021 | 25-Mar-2021.
96812 | PlusOne Communications LLC (State Official) | Akron, OH | 29-Mar-2021 | 26-Mar-2021.
96813 | Allstate Insurance Company (Worker) | Northbrook, IL | 29-Mar-2021 | 28-Mar-2021.
96814 | The Anthem Companies, Inc. (State Official) | Wallingford, CT | 29-Mar-2021 | 29-Mar-2021.
96815 | Halliburton Energy Services (State Official) | Duncan, OK | 31-Mar-2021 | 30-Mar-2021.
96816 | Gates Corporation (American Job Center) | Galesburg, IL | 31-Mar-2021 | 30-Mar-2021.
96817 | Gilster-Mary Lee Corporation (State Official) | Wilson, AR | 31-Mar-2021 | 31-Mar-2021.

[FR Doc. 2021-09474 Filed 5-4-21; 8:45 am]

BILLING CODE P